DEPARTMENT OF HEALTH AND HUMAN SERVICES

National Institutes of Health

National Institute on Aging Amended; Notice of Meeting

Notice is hereby given of a change in the meeting of the Biological Aging Review Committee, October 03, 2013, 08:00 a.m. to October 04, 2013, 05:00 p.m., Doubletree by Hilton Hotel Bethesda, 8120 Wisconsin Avenue, Bethesda, MD 20814, which was published in the Federal Register on August 20, 2013, 51195 FR 161.

Meeting will be held on November 15, 2013 from 11:30 a.m. until 6:30 p.m. at the National Institute on Aging, 7201 Wisconsin Avenue, Suite 2C212, Bethesda, MD 20892. The meeting is closed to the public.

Dated: October 29, 2013.
Melanie J. Gray,
Program Analyst, Office of Federal Advisory Committee Policy.

[FR Doc. 2013-26138 Filed 11-1-13; 8:45 am]

BILLING CODE 4140-01-P